DEPARTMENT OF HOMELAND SECURITY

Federal Emergency Management Agency

[Docket ID: FEMA-2009-0003]

Collection of Overpayments

AGENCY: Federal Emergency Management Agency, DHS.

ACTION: Notice.

SUMMARY: On September 5, 2008, the Federal Emergency Management Agency (FEMA) published a notice in the Federal Register that announced FEMA's intention to implement a revised recoupment process, where warranted, on an individual basis pursuant to the procedures established by regulation for the administrative collection of debts. Now FEMA is providing notice of its revised recoupment process and the availability of the “FEMA Debt Resolution Process: In Summary,” a document which includes a section describing “Your Rights and Options” and provides general information to the public on FEMA's revised recoupment procedures. The revised procedures provide the opportunity for individuals to request an oral hearing.

DATES: FEMA's revised recoupment procedures are effective March 15, 2011.

ADDRESSES: “FEMA Debt Resolution Process: In Summary” can be viewed at http://www.regulations.gov under Docket ID FEMA-2009-0003. A hard copy may be inspected at FEMA, Office of Chief Counsel, Room 835, 500 C Street, SW., Washington, DC 20472.

FOR FURTHER INFORMATION CONTACT: Gloria Hernandez, Federal Emergency Management Agency, Department of Homeland Security, Texas National Processing Services Center, P.O. Box 90215, Denton, TX 76202, telephone (940) 891-8722 (this is not a toll-free number). Individuals who are deaf, hard of hearing or those with speech disabilities may access this number through TTY by calling the toll-free Federal Information Relay Service at 800-877-8339.

SUPPLEMENTARY INFORMATION: On September 5, 2008, FEMA published a notice in the Federal Register (73 FR 51831) announcing FEMA's intention to implement a revised recoupment process, where warranted, on an individual basis pursuant to the procedures established by regulation for the administrative collection of debts. FEMA has developed revised recoupment procedures pursuant to Department of Homeland Security recoupment regulations at 6 CFR part 11 (adopting general procedures for administrative collection of debts set forth at 31 CFR parts 900-904). FEMA will examine the files of individual disaster applicants for evidence of overpayment. If FEMA determines that recoupment is warranted after review, the revised recoupment procedures will apply. A brief summary of these procedures follows.

Under the revised procedures, when FEMA identifies a potential overpayment, FEMA will send the applicant written notification that a debt is owed, specifying the amount of the debt and the reason for the debt. This “Notice of Debt” letter will describe the applicant's available options, including payment of the debt in full within 30 days to avoid any potential interest and/or penalties, a payment plan, a compromise of the debt, or an appeal of the debt determination within 60 days. FEMA will advise the applicant that, if the applicant believes that his or her appeal cannot be decided based on the documentary evidence, for example, when the validity of the debt turns on a question of credibility or veracity, the applicant may request an oral hearing. The applicant will be advised that any request for an oral hearing must be accompanied by an explanation as to why the issue in dispute requires oral testimony and cannot be resolved solely by reviewing documentary evidence. Oral hearings will generally be conducted via telephone conference or may, in certain exceptional circumstances, be held in-person at a FEMA office.

If there is no request for an oral hearing, or if the appeals officer decides the appeal can be resolved fairly based on the documentary evidence alone, FEMA will review the debt based on the written administrative record alone (that is, through a “paper hearing”).

Following review by either an oral or a paper hearing, FEMA will decide the applicant's appeal within 90 days after FEMA receives the applicant's appeal letter and will send a final decision in writing to be included in the individual's official record. If the individual requests an oral hearing and the request is granted, the time limit may be extended to complete that process.

If FEMA determines that the individual owes no debt to FEMA, the recoupment will be terminated and FEMA will reimburse any payments made on the debt. If FEMA determines that the individual owes a debt to FEMA, the individual will be notified of payment options.

Authority: 31 U.S.C. 3701 et seq.; 6 CFR part 11.

Dated: February 24, 2011.
W. Craig Fugate,
Administrator, Federal Emergency Management Agency.

[FR Doc. 2011-6036 Filed 3-14-11; 8:45 am]

BILLING CODE 9111-23-P